DEPARTMENT OF THE INTERIOR

Bureau of Land Management

[LLNV912000 L18200000.XX0000 LXSS006F0000, MO# 4500151937]

Call for Nominations to the Mojave-Southern Great Basin and Sierra Front-Northern Great Basin Resource Advisory Councils

AGENCY: Bureau of Land Management, Interior.

ACTION: Notice.

SUMMARY: The purpose of this notice is to request public nominations to the Bureau of Land Management's (BLM) Mojave-Southern Great Basin and Sierra Front-Northern Great Basin Resource Advisory Councils (RAC).

DATES: All nominations must be received no later than June 14, 2021.

ADDRESSES: Nominations and completed applications should be sent to Chris Rose, BLM Nevada State Office, 1340 Financial Boulevard, Reno, NV 89502, Attention: Nevada RAC Nominations; or email crose@blm.gov with the subject line “Nevada RAC Nominations.” The Nevada State Office will accept public nominations for 45 days from the date this notice is posted.

FOR FURTHER INFORMATION CONTACT: For more information on the Mojave-Southern Great Basin RAC, contact Kirsten Cannon, Southern Nevada District Office, k1cannon@blm.gov, (702) 515-5057. For more information about the Sierra Front-Northern Great Basin RAC, contact Lisa Ross, Carson City District Office, lross@blm.gov, (775) 885-6107. Persons who use a telecommunications device for the deaf may call the Federal Relay Service (FRS) at 1-800-877-8339 to leave a message or question for the above individual. The FRS is available 24 hours a day, 7 days a week. Replies are provided during normal business hours.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by FACA, RAC membership must be balanced and representative of the various interests concerned with the management of the public lands. The rules governing RACs are found at 43 CFR 1784.

The Mojave-Southern Great Basin and Sierra Front-Northern Great Basin RACs are seeking nominations in the following categories:

Category One—Holders of Federal grazing permits or leases within the area for which the RAC is organized; represent interests associated with transportation or rights-of-way; represent developed outdoor recreation, off-highway vehicle users, or commercial recreation activities; represent the commercial timber industry; or represent energy and mineral development.

Category Two—Representatives of nationally or regionally recognized environmental organizations; dispersed recreational activities; archaeological and historical interests; or nationally or regionally recognized wild horse and burro interest groups.

Category Three—Hold State, county, or local elected office; are employed by a State agency responsible for the management of natural resources, land, or water; represent Indian tribes within or adjacent to the area for which the RAC is organized; are employed as academicians in natural resource management or the natural sciences; or represent the affected public at large.

Individuals may nominate themselves or others. Nominees must be residents of the State in which the RAC has jurisdiction. The BLM will evaluate nominees based on their education, training, experience, and knowledge of the geographic area of the RAC. Nominees should demonstrate a commitment to collaborative resource decision-making.

The following must accompany all nominations:

—A completed RAC application, which can be obtained at: https://www.blm.gov/sites/blm.gov/files/RPMC%20Nomination%20Form.pdf

—A letter(s) of reference from represented interests or organizations; and

—Any other information that addresses the nominee's qualifications.

Authority: 43 CFR 1784.4-1.

Jon K. Raby,
State Director.

[FR Doc. 2021-08846 Filed 4-27-21; 8:45 am]

BILLING CODE 4310-HC-P